DEPARTMENT OF ENERGY

Federal Energy Regulatory Commission

Combined Notice of Filings #1

Take notice that the Commission received the following electric corporate filings:

Docket Numbers: EC17-33-000.

Applicants: Solar Star California XLI, LLC, Golden Fields Solar I, LLC, NES Rosamond 1S, LLC, NES Rosamond 2T, LLC.

Description: Joint Application for Authorization for Disposition of Jurisdictional Facilities and Requests for Waivers, Confidential Treatment, and Expedited Action of Solar Star California XLI, LLC, et al.

Filed Date: 11/15/16.

Accession Number: 20161115-5178.

Comments Due: 5 p.m. ET 12/6/16.

Take notice that the Commission received the following electric rate filings:

Docket Numbers: ER17-355-000.

Applicants: ITC Midwest LLC.

Description: § 205(d) Rate Filing: Filing of a CIAC with Norhtern States Power Company to be effective 1/16/2017.

Filed Date: 11/15/16.

Accession Number: 20161115-5144.

Comments Due: 5 p.m. ET 12/6/16.

Docket Numbers: ER17-356-000.

Applicants: MPower Energy NJ LLC.

Description: Baseline eTariff Filing: MPOWER ENERGY NJ LLC to be effective 12/16/2016.

Filed Date: 11/16/16.

Accession Number: 20161116-5001.

Comments Due: 5 p.m. ET 12/7/16.

Docket Numbers: ER17-357-000.

Applicants: MPower Energy.

Description: Baseline eTariff Filing: MPOWER ENERGY LLC to be effective 12/16/2016.

Filed Date: 11/16/16.

Accession Number: 20161116-5002.

Comments Due: 5 p.m. ET 12/7/16.

Take notice that the Commission received the following qualifying facility filings:

Docket Numbers: QF16-904-000.

Applicants: HMV Minster LLC.

Description: Refund Report of HMV Minster LLC.

Filed Date: 11/15/16.

Accession Number: 20161115-5174.

Comments Due: 5 p.m. ET 12/6/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 16, 2016.
Nathaniel J. Davis, Sr.,
Deputy Secretary.

[FR Doc. 2016-28105 Filed 11-21-16; 8:45 am]

BILLING CODE 6717-01-P